NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Pub. L. 104-13. This is the second notice for public comment; the first was published in the Federal Register at 72 FR 50410, and no substantial comments were received. NSF is forwarding the proposed renewal submission to the Office of Management and Budget (OMB) for clearance simultaneously with the publication of this second notice. The full submission may be found at: http://www.reginfo.gov/public/do/PRAMain. Comments regarding (a) whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725 17th Street, NW., Room 10235, Washington, DC 20503, and to Suzanne Plimpton, Reports Clearance Officer, National Science Foundation, 4201 Wilson Boulevard, Suite 925, Arlington, Virginia 22230 or send e-mail to splimpto@nsf.gov. Comments regarding these information collections are best assured of having their full effect if received within 30 days of this notification. Copies of the submission(s) may be obtained by calling 703-292-7556.

FOR FURTHER INFORMATION CONTACT: Suzanne Plimpton at (703) 292-7556 or send e-mail to splimpto@nsf.gov. Individuals who use a telecommunications device for the deaf (TDD) may call the Federal Information Relay Service (FIRS) at 1-800-877-8339 between 8 a.m. and 8 p.m., Eastern time, Monday through Friday.

NSF may not conduct or sponsor a collection of information unless the collection of information displays a currently valid OMB control number and the agency informs potential persons who are to respond to the collection of information that such persons are not required to respond to the collection of information unless it displays a currently valid OMB control number.

SUPPLEMENTARY INFORMATION: Title of Collection: EHR Generic Clearance.

OMB Approval Number: 3145-0136.

Expiration Date of Approval: January 31, 2008.

Abstract

The National Science Foundation (NSF) requests renewal of program accountability and communication data collections (e.g. surveys, face-to-face and telephone interviews, observations, and focus groups) that describe and track the impact of NSF funding that focuses on the Nation's science, technology, engineering and mathematics (STEM) education and STEM workforce. NSF funds grants, contracts, and cooperative agreements to colleges, universities, and other eligible institutions, and provides graduate research fellowships to individuals in all parts of the United States and internationally.

The Directorate for Education and Human Resources (EHR), a unit within NSF, promotes rigor and vitality within the Nation's STEM education enterprise to further the development of the 21st century's STEM workforce and public scientific literacy. EHR does this through diverse projects and programs that support research, extension, outreach, and hands-on activities serving STEM learning and research at all institutional (e.g. pre-school through postdoctoral) levels in formal and informal settings; and individuals of all ages (birth and beyond). EHR also focuses on broadening participation in STEM learning and careers among United States citizens, permanent residents and nationals, particularly those individuals traditionally underemployed in the STEM research workforce, including but not limited to women, persons with disabilities, and racial and ethnic minorities.

At the request of the Office of Management and Budget (OMB) an EHR Generic Clearance was established in 1995 to integrate management, monitoring and evaluation information pertaining to the NSF's Education and Training (E & T) portfolio in response to the Government Performance and Results Act (GPRA) of 1993. Under this generic survey clearance (OMB 3145-0136), data from the NSF administrative databases are incorporated with findings gathered through initiative-, divisional-, and program-specific data collections. The scope of the EHR Generic Clearance primarily covers descriptive information gathered from education and training projects that are funded by NSF. Most programs subject to EHR Generic data collection are funded by the EHR Directorate, but some are funded in whole or in part by disciplinary directorates or multi-disciplinary or cross-cutting programs. Since 2001 in accordance with OMB's Terms of Clearance, NSF primarily uses the data from the EHR Generic Clearance for program planning, management and audit purposes to respond to queries from the Congress, the public, NSF's external merit reviewers who serve as advisors, including Committees of Visitors, and the NSF's Office of the Inspector General.

OMB has limited the collection to three categories of descriptive data: (1) Staff and project participants (data that are also necessary to determine individual-level treatment and control groups for future third-party study); (2) project implementation characteristics (also necessary for future use to identify well-matched comparison groups) and (3) project outputs (necessary to measure baseline for pre- and post- NSF-funding-level impacts.)

Use of the Information: This information is required for effective administration, communication, program and project monitoring and evaluation, and for measuring attainment of NSF's program, project and strategic goals, as required by the President's Management agenda as represented by the Office of Management and Budget's (OMB) Program Assessment Rating Tool (PART); the Deficit Reduction Act of 2005 (Pub. L. 109-171) which established the Academic Competitiveness Council (ACC), and the NSF's Strategic Plan. The Foundation's FY 2006-2011 Strategic Plan describes four strategic outcome goals of Discovery, Learning, Research Infrastructure, and Stewardship. NSF's complete strategic plan may be found at: http://www.nsf.gov/publications/pub_summ.jsp?ods_key=nsf0648.

The work of the multi-agency ACC employed a methodological framework to determine STEM education program effectiveness. The ACC was chaired by the Department of Education, and other agencies that participated included the NSF and the National Aeronautics and Space Administration (NASA). The ACC suggested cross-agency STEM education goals and metrics and developed a framework or “Hierarchy of Study Designs” under three scientific categories: (1) Experimental (often called randomized controlled trials—RCT) (2) quasi-experimental (such as well-matched comparison group studies) and (3) other (such as pre- and post-test and multiple methodologies). Further details on the participating agencies and the ACC's recommendations are available at: http://www.ed.gov/about/inits/ed/competitiveness/acc-mathscience/index.html.

Since the EHR Generic Clearance research is primarily used for accountability purposes, including responding to queries from Committees of Visitors and other scientific experts, a census rather than sampling design typically is necessary. At the individual project level, funding can be adjusted based on individual project's responses to some of the surveys. Some data collected under the EHR Clearance serve as baseline data for separate research and evaluation studies. The EHR Generic Clearance may be used to clear data collections for other ACC agencies, such as NASA. In February 2007 NASA and NSF signed a Memorandum of Understanding (MOU) to coordinate efforts promoting STEM education, the participation of individuals underrepresented in STEM, and evaluation of STEM education projects and programs in formal and informal settings. Additional information on the NSF-NASA MOU can be found at: http://education.nasa.gov/divisions/higher/overview/F_One_Giant_Step_STEM_Education.html.

In order to conduct program or portfolio level evaluations, however, both experimental and quasi-experimental evaluation research studies on STEM education interventions require researchers to identify individual-level and organizational or project-level control and treatment groups or comparison groups. NSF-funded contract or grantee researchers and evaluators in part may identify control, comparison, or treatment groups for NSF's E&T portfolio using some of the descriptive data gathered through OMB 3145-0136 to conduct well-designed, rigorous research and portfolio evaluation studies.

In accordance with the 2001 and 2005 OMB terms of clearance, NSF requests separate stand-alone clearance (and separately announces for comment in the Federal Register) any program or portfolio research or evaluation. Two examples of third-party evaluations that used EHR OMB 3145-0136 data to inform study design are: OMB 3145-0190 (Expired: 5/2005) Evaluation of NSF's Louis Stokes Alliances for Minority Participation (LSAMP) program conducted by the Urban Institute and OMB No. 3145-0182 (Expired 7/2005) Evaluation of the Initial Impacts of the Integrative Graduate Education Research and Traineeship (IGERT) program conducted by Abt Associates. For more information on these and other NSF-funded evaluations, please see the NSF's FY 2006 Full Performance and Accountability Report: Appendix 4B: Table of External Evaluations at: http://www.nsf.gov/pubs/2007/nsf0701/pdf/19.pdf.

Respondents: Individuals or households, not-for-profit institutions, business or other for profit, and Federal, State, local or tribal government.

Number of Respondents: 27,000.

Burden on the Public: The total estimate for this collection is 60,000 annual burden hours. This figure is based on the previous 3 years of collecting information under this clearance and anticipated collections. The average annual reporting burden is between .5 and 50 hours per ‘respondent' depending on whether a respondent is a direct participant who is self-reporting, or representing a project and reporting on behalf of many project participants.

Dated: December 4, 2007.
Suzanne H. Plimpton,
Reports Clearance Officer, National Science Foundation.

[FR Doc. 07-5975 Filed 12-6-07; 8:45 am]

BILLING CODE 7555-01-M